DEPARTMENT OF JUSTICE

Notice of Lodging of Consent Decree Under the Comprehensive Environmental Response, Compensation and Liability Act (CERCLA)

Pursuant to Section 122 of the Comprehensive Environmental Response, Compensation, and Liability Act of 1980, as amended (“CERCLA”), 42 U.S.C. 9622, notice is hereby given that on May 31, 2011, a proposed Consent Decree in United States v. United Nuclear Corporation, No. CV 11-01060-PHX-NVW (D. Ariz.), was lodged with the United States District Court for the District of Arizona with respect to the Pine Mountain Mine Site (“Site”) located in the Tonto National Forest in Arizona.

On May 27, 2011, the United States, on behalf of the U.S. Department of Agriculture, Forest Service (“Forest Service”), filed a Complaint in this matter against defendant United Nuclear Corporation (“UNC”) pursuant to CERCLA Section 107, 42 U.S.C. 9607, for environmental response costs incurred or to be incurred by the Forest Service to address releases or threatened releases of hazardous substances at the Site. The proposed Consent Decree resolves the claims in the Complaint. Under the Consent Decree, UNC will pay the Forest Service $800,000 in reimbursement of response costs. In return, UNC and certain of its corporate affiliates receive a covenant not to sue or to take administrative action pursuant to Sections 106 and 107 of CERCLA, 42 U.S.C. 9606 and 9607, from the United States with respect to certain response costs and response actions, including the costs of, and performance by, the Forest Service of a removal action at the Site to address the mercury and other hazardous substances present in the mining wastes and sediments at the Site.

The Department of Justice will receive for a period of thirty (30) days from the date of this publication comments relating to the proposed Settlement Agreement. Comments should be addressed to the Assistant Attorney General, Environment and Natural Resources Division, and either e-mailed to pubcomment-ees.enrd@usdoj.gov or mailed to P.O. Box 7611, U.S. Department of Justice, Washington, DC 20044-7611, and should refer to United States v. United Nuclear Corporation, No. CV 11-01060-PHX-NVW (D. Ariz.), D.J. Ref. 90-11-3-07803/1.

During the public comment period, the proposed Consent Decree may also be examined on the following Department of Justice Web site: http://www.usdoj.gov/enrd/Consent_Decrees.html.

A copy of the proposed Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $6.25 (25 cents per page reproduction cost) payable to the U.S. Treasury or, if by e-mail or fax, forward a check in that amount to the Consent Decree Library at the stated address.

Henry Friedman,
Assistant Chief, Environmental Enforcement Section, Environment and Natural Resources Division.

[FR Doc. 2011-14323 Filed 6-8-11; 8:45 am]

BILLING CODE 4410-15-P